DEPARTMENT OF ENERGY

Federal Energy Regulatory Commission

[Docket No. EC02-2-000, et al.]

Commonwealth Atlantic Limited Partnership, et al.; Electric Rate and Corporate Regulation Filings

October 23, 2001.

Take notice that the following filings have been made with the Commission:

1. Commonwealth Atlantic Limited Partnership and Commonwealth Atlantic Power LLC

[Docket Nos. EC02-2-000, ER91-215-001 and ER90-24-002]

Take notice that on October 17, 2001, Commonwealth Atlantic Limited Partnership and Commonwealth Atlantic Power LLC filed the last page of Mr. Heironymus' affidavit that was inadvertently excluded from his affidavit in Attachment 3 of the Application filed on October 9, 2001.

Comment date: November 5, 2001, in accordance with Standard Paragraph E at the end of this notice.

2. Rockland Electric Company and PJM Interconnection L.L.C.

[Docket Nos. EC02-7-000 and ER02-109-000]

Take notice that on October 17, 2001 Rockland Electric Company and PJM Interconnection, LLC (collectively, Applicants) tendered for filing a Joint Application for Approval of Transfer of Operational Control over Jurisdictional Facilities and Acceptance for Filing of Tariff Revisions, Executed Signature Pages, and Membership Agreement under sections 203 and 205 of the Federal Power Act. In addition, Applicants filed a correction to Page 4 of the Application on October 18, 2001.

Rockland requests approval of the transfer by November 30, 2001, and PJM seeks an effective date of February 1, 2002 for the tariff revisions, the executed signature pages, and the Membership Agreement.

Comment date: November 7, 2001, in accordance with Standard Paragraph E at the end of this notice.

3. American Transmission Systems, Inc.

[Docket No. ER02-110-000]

Take notice that on October 16, 2001, American Transmission Systems, Inc. filed with the Federal Energy Regulatory Commission (Commission) a Service Agreement to provide Firm Point-to-Point Transmission Service for CMS Marketing, Services and Trading Company, the Transmission Customer. Services are being provided under the American Transmission Systems, Inc. Open Access Transmission Tariff submitted for filing by the Federal Energy Regulatory Commission in Docket No. ER99-2647-000. The proposed effective date under the Service Agreement is October 1, 2001 for the above mentioned Service Agreement in this filing.

Comment date: November 6, 2001, in accordance with Standard Paragraph E at the end of this notice.

4. Midwest Independent Transmission System Operator, Inc.

[Docket No. ER02-111-000]

Take notice that on October 16, 2001, the Midwest Independent Transmission System Operator, Inc. (the Midwest ISO) tendered for filing with the Federal Energy Regulatory Commission (FERC or Commission) proposed revisions to the Midwest ISO Open Access Transmission tariff (OATT), FERC Electric Tariff, First Revised Volume No. 1.

The Midwest ISO has electronically served copies of its filing, with attachments, upon all Midwest ISO Members, Member representatives of Transmission Owners, and Non-transmission Owners, the Midwest ISO Advisory Committee participants, Policy Subcommittee participants, as well as all state commissions within the region. In addition, the filing has been electronically posted on the Midwest ISO's website at www.midwestiso.org under the heading “FERC Filings” for other interested parties in this matter.

Comment date: November 6, 2001, in accordance with Standard Paragraph E at the end of this notice.

5. Mid-Continent Area Power Pool

[Docket No. ER02-112-000]

Take notice that on October 16, 2001, the Mid-Continent Area Power Pool, on behalf of its public utility members, filed with the Federal Energy Regulatory Commission (Commission) transmission service agreements for non-firm and short-term firm service with MAPP members.

Comment date: November 6, 2001, in accordance with Standard Paragraph E at the end of this notice.

6. Astoria Generating Company, L.P., Carr Street Generating Station, L.P., Erie Boulevard Hydropower, L.P., Liberty Electric Power, LLC, Twelvepole Creek, LLC, Orion Power MidWest, L.P.

[Docket No. ER02-113-000]

Take notice that on October 16, 2001, Astoria Generating Company, L.P., Carr Street Generating Station, L.P., Erie Boulevard Hydropower, L.P., Liberty Electric Power, LLC, Twelvepole Creek, LLC, and Orion Power MidWest, L.P. (collectively, the Orion Affiliates) tendered for filing with the Federal Energy Regulatory Commission (Commission) pursuant to Section 205 of the Federal Power Act, 16 USC 824d (1994), and Part 35 of the Commission's regulations, 18 CFR 35 (2001), revisions to their market-based rate tariffs to prohibit transactions with the franchised service territory utility affiliates of their proposed merger partner, Reliant Resources, Inc. while the proposed transaction is pending.

The Orion Affiliates request waiver of the prior notice requirements of Section 35.3 of the Commission's regulations, 18 CFR 35.3 (2001), to permit their filing to become effective September 27, 2001.

Comment date: November 6, 2001, in accordance with Standard Paragraph E at the end of this notice.

7. Southern Company Services, Inc.

[Docket No. ER02-114-000]

Take notice that on October 16, 2001, Southern Company Services, Inc. (SCS), acting on behalf of Alabama Power Company (APC), filed with the Federal Energy Regulatory Commission (Commission) the Interconnection Agreement (Agreement) between Mobile Energy Services Company, L.L.C. and APC. The Agreement allows Mobile Energy to interconnect its facility in Mobile, Alabama to and operate in parallel with APC's electric system. The Agreement was executed on September 18, 2001 and terminates in one (1) year. An effective date of September 18, 2001 has been requested.

Comment date: November 6, 2001, in accordance with Standard Paragraph E at the end of this notice.

8. Exelon Generation Company, LLC

[Docket No. ER02-115-000]

Take notice that on October 16, 2001, Exelon Generation Company, LLC (Exelon Generation), submitted for filing with the Federal Energy Regulatory Commission (Commission) a power sales service agreement between Exelon Generation and Madison Gas & Electric Company under Exelon Generation's wholesale power sales tariff, FERC Electric Tariff Original Volume No. 1.

Comment date: November 6, 2001, in accordance with Standard Paragraph E at the end of this notice.

9. Michigan Electric Transmission Company

[Docket No. ER02-116-000]

Take notice that on October 16, 2001, Michigan Electric Transmission Company (Michigan Transco) tendered for filing with the Federal Energy Regulatory Commission (Commission) an executed Service Agreements for Firm and Non-Firm Point-to-Point Transmission Service with California Electric Marketing, LLC (Customer) pursuant to the Joint Open Access Transmission Service Tariff filed on February 22, 2001 by Michigan Transco and International Transmission Company (ITC). Michigan Transco is requesting an effective date of October 1, 2001 for the Agreements.

Copies of the filed agreements were served upon the Michigan Public Service Commission, ITC, and the Customer.

Comment date: November 6, 2001, in accordance with Standard Paragraph E at the end of this notice.

10. Ameren Services Company

[Docket No. ER02-117-000]

Take notice that on October 17, 2001, Ameren Services Company (ASC) tendered for filing with the Federal Energy Regulatory Commission (Commission) Service Agreements for Firm Point-to-Point Transmission Service between ASC and Aquila Energy Marketing Corporation. ASC asserts that the purpose of the Agreements is to permit ASC to provide transmission service to Aquila Energy Marketing Corporation pursuant to Ameren's Open Access Transmission Tariff.

Comment date: November 7, 2001, in accordance with Standard Paragraph E at the end of this notice.

11. Entergy Services, Inc.

[Docket No. ER02-118-000]

Take notice that on October 17, 2001, Entergy Services, Inc., on behalf of Entergy Gulf States, Inc., tendered for filing with the Federal Energy Regulatory Commission (Commission) a unilaterally executed Interconnection and Operating Agreement with Bayou Cove Peaking Power, LLC (Bayou Cove), and a Generator Imbalance Agreement with Bayou Cove.

Comment date: November 7, 2001, in accordance with Standard Paragraph E at the end of this notice.

12. Unitil Power Corp.

[Docket No. ER02-119-000]

Take notice that on October 17, 2001, Unitil Power Corp. (UPC) tendered for filing with the Federal Energy Regulatory Commission (Commission) a service agreement between UPC and Engage Energy America L.L.C. for service under UPC's Market-Based Power Sales Tariff. This Tariff was accepted for filing by the Commission on September 25, 1997, in Docket No. ER97-2460-000. UPC requests an effective date of October 1, 2001 for the service agreement with Engage Energy America L.L.C.

Comment date: November 7, 2001, in accordance with Standard Paragraph E at the end of this notice.

13. Fitchburg Gas and Electric Light Company

[Docket No. ER02-120-000]

Take notice that on October 17, 2001 Fitchburg Gas and Electric Light Company (Fitchburg) tendered for filing with the Federal Energy Regulatory Commission (Commission) a notice of termination of a service agreement with Engage Energy US, L.P. under Fitchburg's FERC Electric Tariff No. 3.

Fitchburg requests an effective date of December 12, 2001.

Comment date: November 7, 2001, in accordance with Standard Paragraph E at the end of this notice.

14. Orange and Rockland Utilities, Inc.

[Docket No. ER02-121-000]

Take notice that on October 17, 2001, Orange and Rockland Utilities, Inc. and Rockland Electric Company (collectively Applicants) tendered for filing with the Federal Energy Regulatory Commission (Commission) a Revised Power Supply Agreement. The Applicants request that the Commission permit the rate schedule to become effective on December 1, 2001.

Comment date: November 7, 2001, in accordance with Standard Paragraph E at the end of this notice.

15. Cinergy Services, Inc.

[Docket No. ER02-122-000]

Take notice that on October 17, 2001, Cinergy Services, Inc. (Cinergy) tendered for filing with the Federal Energy Regulatory Commission (Commission) a Notice of Name Change from New Energy, Inc. to AEWS New Energy, Inc. Cinergy respectfully requests waiver of notice to permit the Notice of Name Change to be made effective as of the date of the Notice of Name Change.

A copy of the filing was served upon AES New Energy, Inc.

Comment date: November 7, 2001, in accordance with Standard Paragraph E at the end of this notice.

16. FirstEnergy Solutions Corp.

[Docket No. ER02-123-000]

Take notice that on October 18, 2001, FirstEnergy Solutions Corp. (Solutions) tendered for filing with the Federal Energy Regulatory Commission (Commission) a Confirmation Form for sale of off-peak energy to Jersey Central Power & Light Company and Pennsylvania Electric Company from October 1 through December 31, 2001. Solutions has asked for waiver of any applicable requirements in order to make the Confirmation Form effective as of October 1, 2001.

Comment date: November 8, 2001, in accordance with Standard Paragraph E at the end of this notice.

17. Rainy River Energy Corporation—Taconite Harbor

[Docket No. ER02-124-000]

Take notice that on October 18, 2001, Rainy River Energy Corporation—Taconite Harbor (RRTH) filed with the Federal Energy Regulatory Commission (Commission) an application for an order authorizing RRTH to make wholesale sales of electric power at market-based rates.

Comment date: November 8, 2001, in accordance with Standard Paragraph E at the end of this notice.

18. Progress Energy, Inc. on behalf of Florida Power Corporation

[Docket No. ER02-125-000]

Take notice that on October 18, 2001, Florida Power Corporation (FPC) filed with the Federal Energy Regulatory Commission (Commission) a Service Agreement with Ameren Energy, Inc. under FPC's Short-Form Market-Based Wholesale Power Sales Tariff (SM-1), FERC Electric Tariff No. 10. A copy of this filing was served upon the Florida Public Service Commission and the North Carolina Utilities Commission.

FPC is requesting an effective date of September 19, 2001 for this Agreement.

Comment date: November 8, 2001, in accordance with Standard Paragraph E at the end of this notice.

19. Mid-Continent Area Power Pool

[Docket No. ER02-126-000]

Take notice that on October 18, 2001, the Mid-Continent Area Power Pool, on behalf of its public utility members, filed with the Federal Energy Regulatory Commission (Commission) a service agreement with ENMAX Energy Marketing, Inc. under MAPP Schedule R.

Comment date: November 8, 2001, in accordance with Standard Paragraph E at the end of this notice.

20. Mid-Continent Area Power Pool

[Docket No. ER02-127-000]

Take notice that on October 18, 2001, the Mid-Continent Area Power Pool, on behalf of its public utility members, filed with the Federal Energy Regulatory Commission (Commission) a long term, short-term firm and non-firm transmission service agreements under MAPP Schedule F.

Comment date: November 8, 2001, in accordance with Standard Paragraph E at the end of this notice.

21. PPL Electric Utilities Corporation

[Docket No. ER02-128-000]

Take notice that on October 18, 2001, PPL Electric Utilities Corporation (PPL Electric) and Williams Generation Company—Hazleton (WGC) filed with the Federal Energy Regulatory Commission (Commission) an Interconnection Agreement between PPL Electric and WGC. PPL Electric and WGC request an effective date of October 19, 2001 for the Interconnection Agreement.

Comment date: November 8, 2001, in accordance with Standard Paragraph E at the end of this notice.

22. Southern California Edison Company

[Docket No. ER02-129-000]

Take notice that on October 18, 2001, Southern California Edison Company (SCE) tendered for filing with the Federal Energy Regulatory Commission (Commission) revisions to the Amended and Restated Radial Lines Agreement (RLA) between SCE and Reliant Energy Coolwater, L.L.C. (Reliant).

The revisions to the RLA reflect the costs for removal and installation of capital equipment on the Kramer-Coolwater No. 1 Line at SCE's Kramer Substation, which are planned to be in service in November 2001. Copies of this filing were served upon the Public Utilities Commission of the State of California and Reliant.

Comment date: November 8, 2001, in accordance with Standard Paragraph E at the end of this notice.

23. Entergy Services, Inc.

[Docket No. ER02-130-000]

Take notice that on October 18, 2001, Entergy Services, Inc., on behalf of Entergy Louisiana, Inc., tendered for filing with the Federal Energy Regulatory Commission (Commission) a unilaterally executed Interconnection and Operating Agreement with CII Carbon LLC (CII Carbon), and a Generator Imbalance Agreement with CII Carbon.

Comment date: November 8, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Acting Secretary.

[FR Doc. 01-27193 Filed 10-29-01; 8:45 am]

BILLING CODE 6717-01-P